DEPARTMENT OF COMMERCE

International Trade Administration

[A-570-882]

Refined Brown Aluminum Oxide From the People's Republic of China: Final Results of the Expedited Third Five-Year Sunset Review of the Antidumping Duty Order

AGENCY: Enforcement and Compliance, International Trade Administration, Department of Commerce.

SUMMARY: As a result of this sunset review, the Department of Commerce (Commerce) finds that revocation of the antidumping duty order on refined brown aluminum oxide (RBAO) from the People's Republic of China (China) would be likely to lead to continuation or recurrence of dumping at the levels indicated in the “Final Results of Review” section of this notice.

DATES: Applicable December 31, 2019.

FOR FURTHER INFORMATION CONTACT: Ian Hamilton, AD/CVD Operations, Office II, Enforcement and Compliance, International Trade Administration, U.S. Department of Commerce, 1401 Constitution Avenue NW, Washington, DC 20230; telephone: (202) 482-4798.

SUPPLEMENTARY INFORMATION:

Background

On November 19, 2003, Commerce published its antidumping duty order on RBAO from China in the Federal Register.¹ On September 10, 2019, Commerce published the notice of initiation of the third sunset review of the antidumping duty order on RBAO from China,² pursuant to section 751(c) of the Tariff Act of 1930, as amended (the Act).³ Commerce received notices of intent to participate from Imerys Fused Minerals Niagara Falls, Inc. (Imerys), U.S. Electrofused Minerals, Inc. (Electrofused), Washington Mills Group, Inc (Washington Mills), and Great Lakes Minerals, LLC (Great Lakes) (collectively, domestic interested parties), within the deadline specified in 19 CFR 351.218(d)(1)(i).⁴ Imerys, Electrofused, Washington Mills, and Great Lakes each claimed interested party status under section 771(9)(C) of the Act, as domestic producers of RABO.

¹ See Antidumping Duty Order: Refined Brown Aluminum Oxide (Otherwise Known as Refined Brown Artificial Corundum or Brown Fused Alumina) from the People's Republic of China, 68 FR 65249 (November 19, 2003) (Order).

² See Order. We applied the weighted-average dumping margins of 135.18 percent to Zibo Jinyu Abrasive Co., Ltd. (Zibo Jinyu), and 135.18 percent as the China-wide rate. Id., 68 FR at 65250.

³ See Initiation of Five-Year (Sunset) Review, 84 FR 47485 (September 10, 2019).

⁴ See Imerys, Electrofused, and Washington Mills' Letter, “Refined Brown Aluminum Oxide from the People's Republic of China: Notice of Intent to Participate,” dated September 16, 2019; and Great Lakes' Letter, “Refined Brown Aluminum Oxide from the People's Republic of China: Notice of Intent to Participate,” dated September 18, 2019.

Commerce received a substantive response from the domestic interested parties ⁵ within the 30-day deadline specified in 19 CFR 351.218(d)(3)(i). We received no substantive response from any other domestic or interested parties in this proceeding, nor was a hearing requested.

⁵ See Domestic Interested Parties' Letter, “Refined Brown Aluminum Oxide from China, Third Sunset Review: Substantive Response to the Notice of Initiation,” dated October 1, 2019.

On October 21, 2019, Commerce notified the U.S. International Trade Commission (ITC) that it did not receive an adequate substantive response from respondent interested parties.⁶ As a result, pursuant to section 751(c)(3)(B) of the Act and 19 CFR 351.218(e)(1)(ii)(C)(2), Commerce conducted an expedited (120-day) sunset review of this antidumping duty order.

⁶ See Commerce's Letter, “Sunset Review Initiated on September 1, {sic} 2019,” dated October 21, 2019.

Scope of the Order

The merchandise covered by this order is ground, pulverized or refined brown artificial corundum, also known as brown aluminum oxide or brown fused alumina, in grit size of ⅜ inch or less. Excluded from the scope of the order is crude artificial corundum in which particles with a diameter greater than ⅜ inch constitute at least 50 percent of the total weight of the entire batch. The scope includes brown artificial corundum in which particles with a diameter greater than ⅜ inch constitute less than 50 percent of the total weight of the batch. The merchandise under investigation is currently classifiable under subheadings 2818.10.20.00 and 2818.10.20.90 of the Harmonized Tariff Schedule of the United States (HTSUS). Although the HTSUS subheading is provided for convenience and customs purposes, the written description of the merchandise covered by the order is dispositive. For a complete description of the scope of the Order, see the Issues and Decision Memorandum.⁷

⁷ See Memorandum, “Issues and Decision Memorandum for the Final Results of Expedited Third Sunset Review of the Antidumping Duty Order on Refined Brown Aluminum Oxide from the People's Republic of China,” dated concurrently with, and hereby adopted by, this notice (Issues and Decision Memorandum).

Analysis of Comments Received

All issues raised in this sunset review are addressed in the Issues and Decision Memorandum. The issues discussed in the Issues and Decision Memorandum are the likelihood of continuation or recurrence of dumping, and the magnitude of the margins of dumping likely to prevail if this order were revoked. The Issues and Decision Memorandum is a public document and is on file electronically via Enforcement and Compliance's Antidumping and Countervailing Duty Centralized Electronic Service System (ACCESS). ACCESS is available to registered users at http://access.trade.gov, and to all parties in the Central Records Unit, room B8024 of the main Commerce building. A list of topics discussed in the Issues and Decision Memorandum is included as an appendix to this notice. In addition, a complete version of the Issues and Decision Memorandum can be accessed directly on the internet at http://enforcement.trade.gov/frn/. The signed and electronic versions of the Issues and Decision Memorandum are identical in content.

Final Results of Review

Pursuant to sections 751(c)(1) and 752(c)(1) and (3) of the Act, we determine that revocation of the antidumping duty order on RBAO from China would be likely to lead to continuation or recurrence of dumping at weighted-average margins up to 135.18 percent.

Administrative Protective Order

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(c), and 777(i)(1) of the Act and 19 CFR 351.218.

Dated: December 19, 2019.
Jeffrey I. Kessler,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Dumping Margins Likely to Prevail

VII. Final Results of Sunset Review

VIII. Recommendation

[FR Doc. 2019-28234 Filed 12-30-19; 8:45 am]

BILLING CODE 3510-DS-P